DEPARTMENT OF ENERGY

Federal Energy Regulatory Commission

[Docket No. RD15-2-000]

Proposed Agency Information Collection

AGENCY: Federal Energy Regulatory Commission, Energy.

ACTION: Notice and Request for Comments.

SUMMARY: The Federal Energy Regulatory Commission (Commission) invites public comment in Docket No. RD15-2-000 on a proposed change to a collection of information that the Commission is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before May 15, 2015.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver an original of their comments to: Federal Energy Regulatory Commission, Secretary of the Commission, 888 First Street NE., Washington, DC 20426.

FOR FURTHER INFORMATION CONTACT: Ellen Brown may be reached by email at DataClearance@FERC.gov, telephone at (202) 502-8663, and fax at (202) 273-0873.

SUPPLEMENTARY INFORMATION: The Commission will submit Reliability Standard PRC-006-2 to OMB for review under FERC-725G (Mandatory Reliability Standards for the Bulk-Power System: PRC Standards, OMB Control No. 1902-0252).¹

¹ In 2012, the Commission initially approved Reliability Standard PRC-006-1. Automatic Underfrequency Load Shedding and Load Shedding Plans Reliability Standards, Order No. 763, 139 FERC ¶ 61,098, order granting clarification, 140 FERC ¶ 61,164 (2012). The Commission included Reliability Standard PRC-006-1 under FERC-725A (OMB Control No. 1902-0244). The entire burden associated with Reliability Standard PRC-006-2 (for new requirements as well as those unchanged from PRC-006-1) will be added to FERC-725G. In the future, the burden (an estimated 12,672 hours) associated with Reliability Standard PRC-006-1 will be removed from FERC-725A, to remove the temporary double counting of those hours.

Type of Request: Three-year extension of the FERC-725G information collection requirements with the stated changes to the current reporting and record retention requirements.

Abstract: The Commission requires the information collected by the FERC-725G to implement the statutory provisions of section 215 of the Federal Power Act (FPA).² On August 8, 2005, Congress enacted into law the Electricity Modernization Act of 2005, which is Title XII, Subtitle A, of the Energy Policy Act of 2005 (EPAct 2005).³ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.⁴

² 16 U.S.C. 824o (2012).

³ Energy Policy Act of 2005, Pub. L. 109-58, Title XII, Subtitle A, 119 Stat. 594, 941 (codified at 16 U.S.C. 824o).

⁴ 16 U.S.C. 824o(e)(3).

On February 3, 2006, the Commission issued Order No. 672, implementing section 215 of the FPA.⁵ Pursuant to Order No. 672, the Commission certified one organization, North American Electric Reliability Corporation (NERC), as the ERO.⁶ The Reliability Standards developed by the ERO and approved by the Commission apply to users, owners and operators of the Bulk-Power System as set forth in each Reliability Standard.

⁵ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁶ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

In Order No. 763, the Commission approved Reliability Standard PRC-006-1, but directed NERC to include explicit language in a subsequent version of the Reliability Standard clarifying that applicable entities are required to implement corrective actions identified by the planning coordinator in accordance with a schedule established by the same planning coordinator.

NERC filed a petition on December 15, 2014 requesting approval of proposed Reliability Standard PRC-006-2 addressing the Commission's directive in Order No. 763. The NERC petition states that the “[p]roposed Reliability Standard PRC-006-2, through proposed new Requirement R15, and proposed enhanced language of the existing Requirements R9 and R10, requires the Planning Coordinator to develop a schedule for implementation of any necessary corrective actions, and requires that the applicable entities will implement these corrective actions according to the schedule established by the Planning Coordinator.”

Type of Respondents: Planning coordinators, UFLS entities (as they are defined in the proposed Reliability Standard) and transmission owners that own elements identified in the underfrequency load shedding programs established by the planning coordinators.

Estimate of Annual Burden: ⁷ Our estimate below regarding the number of respondents is based on the NERC compliance registry as of January 30, 2015. According to the NERC compliance registry, there are 80 planning coordinators. The individual burden estimates are based on the time needed to gather data, run studies, and analyze study results to design or update the underfrequency load shedding programs. Additionally, documentation and the review of underfrequency load shedding program results by supervisors and management is included in the administrative estimations. These are consistent with estimates for similar tasks in other Commission approved standards.

⁷ The Commission defines burden as the total time, effort, or financial resources expended by persons to generate, maintain, retain, or disclose or provide information to or for a federal agency. 5 CFR 1320.3 (2014) (explaining what is included in the information collection burden).

Estimates for the additional burden and cost imposed by the order in Docket No. RD15-2-000 follow.⁸

⁸ The only changes to Requirements R9 and R10 and associated measures and evidence retention in Reliability Standard PRC-006-2 (from PRC-006-1) were enhancements to the language which do not impact the cost of implementation. The modifications provide additional clarity and do not affect burden or cost.

FERC-725G, As Changed in RD15-2-000
| Number and type of respondent ⁹ (1) | Annual number of responses per respondent (2) | Total number of responses (1) * (2) = (3) | Average burden per response (hours) (4) | Total annual burden (hours) (3) * (4) = (5) | Total annual cost ¹⁰ ($)
Requirement R15 and Measure M15 and evidence retention (planning coordinator that conducts under frequency load shedding design assessment under Requirements R4, R5, or R12 and determines under frequency load shedding program does not meet the performance characteristics in Requirement R3, develops corrective action plans and schedule for implementation by UFLS entities within its area) | 80 planning coordinators | 1 | 80 | 52 hrs. (47 hrs. for reporting requirements, and 5 hrs. for record retention requirements) | 4,160 hrs. (3,760 hrs. for reporting requirements, and 400 hrs. for record retention requirements) | $285,783 ($274,179 for reporting requirements, and $11,604 for record retention requirements).
Total | 80 planning coordinators |  |  |  | 4,160 | $285,783.

⁹ The number of respondents is based on the NERC compliance registry as January 30, 2015.

¹⁰ The estimates for cost per hour (salary plus benefits) are based on the May 2013 figures of the Bureau of Labor and Statistics (posted as of February 9, 2015 at http://bls.gov/oes/current/naics3_221000.htm).

• $72.92/hour [($84.96 + $60.87)/2], the average of the salary plus benefits for a manager ($84.96/hour) and an electrical engineer ($60.87/hour), is used for the hourly cost for the reporting requirements associated with Requirement R15 and Measure M15.

• $29.01/hour, the salary plus benefits for a file clerk, is used for the hourly cost for the evidence retention requirements associated with Requirement R15 and Measure M15.

Dated: March 9, 2015.
Kimberly D. Bose,
Secretary.

[FR Doc. 2015-05879 Filed 3-13-15; 8:45 am]

BILLING CODE 6717-01-P